DEPARTMENT OF THE TREASURY

United States Mint

Initial Pricing for 2016 United States Mint American Eagle Products

AGENCY: United States Mint, Treasury.

ACTION: Notice.

SUMMARY: The United States Mint is announcing the initial prices for 2016 American Eagle One Ounce Silver coin products. These prices are listed in the table below.

Product | 2016 Retail price
American Eagle One Ounce Silver Proof Coin | $53.95
American Eagle One Ounce Silver Uncirculated Coin | 44.95
United States Mint Congratulations Set | 54.95
United States Mint Uncirculated Dollar Coin Set | 49.95
2016 Coin & Chronicles Set—Ronald Reagan | 68.95

FOR FURTHER INFORMATION CONTACT: Katrina McDow; Product Manager; Numismatic and Bullion; United States Mint; 801 9th Street NW., Washington, DC 20220; or call 202-354-8495.

Authority: 31 U.S.C. 5112.

Dated: August 31, 2016.
David Motl,
Acting Deputy Director for Management, United States Mint.

[FR Doc. 2016-21449 Filed 9-7-16; 8:45 am]

BILLING CODE P